DEPARTMENT OF LABOR

Occupational Safety and Health Administration

[Docket No. OSHA-2014-0007]

Advisory Committee on Construction Safety and Health (ACCSH); Notice of Intent To Renew the Charter

AGENCY: Occupational Safety and Health Administration (OSHA), Labor.

ACTION: Notice of intent to renew the ACCSH Charter.

SUMMARY: The Secretary of Labor intends to renew the Charter of the Advisory Committee on Construction Safety and Health. The current ACCSH Charter will expire on November 26, 2014.

FOR FURTHER INFORMATION CONTACT: Mr. Damon S. Bonneau, Office of Construction Services, Directorate of Construction, Occupational Safety and Health Administration, Room N-3468, U.S. Department of Labor, 200 Constitution Avenue NW., Washington, DC 20210; telephone (202) 693-2020 (TTY (877) 889-5627); email bonneau.damon@dol.gov.

SUPPLEMENTARY INFORMATION: ACCSH is a continuing advisory committee established under Section 107 of the Contract Work Hours and Safety Standards Act (Construction Safety Act (CSA)) (40 U.S.C. 3704(d)(4)), to advise the Secretary and the Assistant Secretary of Labor for Occupational Safety and Health in the formulation of construction safety and health standards as well as on policy matters arising under the CSA and the Occupational Safety and Health Act of 1970 (OSH Act) (29 U.S.C. 651 et seq.).

In accordance with the Federal Advisory Committee Act (FACA), as amended (5 U.S.C. App. 2 § 14(b)(2)), and its implementing regulations (41 CFR part 102-3 et seq.), the ACCSH Charter must be renewed every two years. The current ACCSH Charter will expire on November 26, 2014. The new Charter includes minor updates to reflect increases in the full-time employees required to support the Committee (1.5 to 1.8) and minor updates to better describe the management of the Committee's records.

Authority and Signature

David Michaels, Ph.D., MPH, Assistant Secretary of Labor for Occupational Safety and Health, directed the preparation of this notice. The authority for this notice is granted by section 7 of the Occupational Safety and Health Act of 1970 (29 U.S.C. 656), section 107 of the Contract Work Hours and Safety Standards Act (Construction Safety Act) (40 U.S.C. 3704), the Federal Advisory Committee Act (5 U.S.C. App. 2), 29 CFR part 1912, 41 CFR part 102-3, and Secretary of Labor's Order No. 1-2012 (77 FR 3912, Jan. 25, 2012).

Signed at Washington, DC, on September 29, 2014.
David Michaels,
Assistant Secretary of Labor for Occupational Safety and Health.

[FR Doc. 2014-23603 Filed 10-2-14; 8:45 am]

BILLING CODE 4510-26-P